DEPARTMENT OF ENERGY

Notice Extending the Public Scoping Period for the Programmatic Environmental Impact Statement on the Disposition of Scrap Metals and Announcement of Public Scoping Meetings

AGENCY: Department of Energy.

ACTION: Notice.

SUMMARY: The Department of Energy (DOE) announces the extension of the public scoping period and additional public scoping meetings for the programmatic environmental impact statement (PEIS) that DOE is preparing on the policy alternatives for the disposition of DOE scrap metals that may have residual surface radioactivity.

DATES: The scoping period on the PEIS is extended 60 days until November 9, 2001. DOE invites Federal agencies, Native American tribes, state and local governments, and members of the public to comment on the scope of this PEIS. DOE will consider all comments received by the close of the scoping period and will consider comments received after that date to the extent practicable. DOE will conduct additional public scoping meetings to assist in defining the appropriate scope of the PEIS, including the alternatives and significant environmental issues to be considered. DOE will hold additional meetings in the following locations:

Meeting: Ken Edwards Community Center, 1527 Fourth Street, Santa Monica, California 90401. October 8, 2001, 8-10 P.M.

Meeting: Simi Valley City Hall, 2929 Tapo Canyon Road, Simi Valley, California 93063. October 9, 2001, 8-10 P.M.

Meeting: Zuhrah Shrine Center, 2540 Park Avenue, Minneapolis, Minnesota 55404. October 16, 2001, 2-5 P.M., 8-10 P.M.

Meeting: American Conference Centers, 780 Third Avenue, C2, New York, NY 10017. October 18, 2001, 2-5 P.M. 8-10 P.M.

At each scoping meeting, the public will have the opportunity to ask questions and to comment orally or in writing on the scope of the PEIS, including the alternatives and issues that DOE should consider. Also, at these meetings, DOE plans to provide background information on the program and the PEIS preparation schedule.

ADDRESSES: Comments on the scope of the PEIS may be mailed to the address below or sent by facsimile or electronic mail. Written comments may be mailed to the following address. Kenneth G. Picha, Jr., Office of Technical Program Integration, EM-22, Attn: Metals Disposition PEIS, Office of Environmental Management, U.S. Department of Energy, 1000 Independence Avenue, SW., Washington, DC 20585-0113, Telephone: (301)-903-7199.

Otherwise, send comments via facsimile to Metals Disposition PEIS at 301-903-9770 or send electronic mail to Metals.Disposition.PEIS@em.doe.gov or the web site at www.em.doe.gov/smpeis.

FOR FURTHER INFORMATION: To request further information about this PEIS, the public scoping meetings, or to be placed on the PEIS distribution list, use any of the methods listed under ADDRESSES above. For background documents in hard copy related to this PEIS contact the DOE Center for Environmental Management Information at 800-736-3282. For general information concerning the DOE National Environmental Policy Act (NEPA) process, contact: Carol Borgstrom, Director, Office of NEPA Policy and Compliance (EH-42), U.S. Department of Energy, 1000 Independence Avenue, SW., Washington, DC 20585-0119, Telephone: 202-586-4600, Voice Mail: 800-472-2756, Facsimile: 202-586-7031.

Additional NEPA information is also available on the DOE web site: http//tis.eh.doe.gov/nepa/

SUPPLEMENTARY INFORMATION: DOE generates surplus and scrap material during the normal course of activities, and attempts to recycle as much as possible consistent with common industrial practice. DOE is also guided by several Executive Orders that provide direction to Federal Agencies on recycling practices to avoid unnecessary energy consumption and use of raw materials for the development of new products. Much of this material consists of scrap metal that may contain residual surface radioactivity. On July 12, 2001, DOE issued a Notice of Intent (66 FR 36562) to prepare a PEIS on the DOE policy alternatives for the disposition of scrap metals that may contain residual surface radioactivity.

As originally announced in the Notice of Intent, DOE has conducted public scoping meetings on the PEIS in the following locations: North Augusta, South Carolina; Oak Ridge, Tennessee; Oakland, California; Richland, Washington; Cincinnati, Ohio; and, Washington, DC. The original public scoping period was to continue until September 10, 2001. However, in response to public comments and to ensure that the public has ample opportunity to provide comments, DOE is extending the public scoping period by 60 days and scheduling additional meetings as specified under DATES, above. The schedule for completion of the Draft PEIS will be delayed until March, 2002, and the Final PEIS until August, 2002. Further information on this proceeding is contained in the Notice of Intent.

Issued in Washington, DC, on August 30, 2001.
Steven V. Cary,
Acting Assistant Secretary, Office of Environment, Safety and Health.

[FR Doc. 01-22382 Filed 9-5-01; 8:45 am]

BILLING CODE 6450-01-P